CONSUMER FINANCIAL PROTECTION BUREAU

12 CFR Parts 1070, 1080, 1081, 1082, and 1090

Updates to Supervision and Enforcement Procedures

AGENCY: Consumer Financial Protection Bureau.

ACTION: Final rule.

SUMMARY: The Consumer Financial Protection Bureau (CFPB) is making ministerial updates to its procedures to reflect a recent organizational change.

DATES: This rule is effective on November 29, 2024.

FOR FURTHER INFORMATION CONTACT: George Karithanom, Regulatory Implementation & Guidance Program Analyst, Office of Regulations, at 202-435-7700 or https://reginquiries.consumerfinance.gov/. If you require this document in an alternative electronic format, please contact CFPB_Accessibility@cfpb.gov.

SUPPLEMENTARY INFORMATION: The CFPB is making limited amendments to five rules to reflect a recent organizational change. The Division of Supervision, Enforcement, and Fair Lending has been replaced by two divisions, the Supervision Division and the Enforcement Division. The CFPB is transferring certain responsibilities under 12 CFR part 1070, which relate to disclosure of confidential supervisory information, from the associate director of the former division to the Supervision Director as head of the Supervision Division. The CFPB is also updating nomenclature across all five rules to reflect the establishment of the new divisions.

As a rule of agency organization, procedure, or practice, this rule is exempt from the notice-and-comment rulemaking requirements of the Administrative Procedure Act.¹

¹ 5 U.S.C. 553(b).

The CFPB has determined that this rule does not impose any new or revise any existing recordkeeping, reporting, or disclosure requirements on covered entities or members of the public that would be collections of information requiring approval by the Office of Management and Budget under the Paperwork Reduction Act.²

² 44 U.S.C. 3501-3521.

List of Subjects

12 CFR Part 1070

Confidential business information, Consumer protection, Freedom of information, Privacy.

12 CFR Part 1080

Administrative practice and procedure, Banks, banking, Consumer protection, Credit, Credit unions, Investments, Law enforcement, National banks, Savings associations, Trade practices.

12 CFR Part 1081

Administrative practice and procedure, Banks, banking, Consumer protection, Credit unions, Law enforcement, National banks, Savings associations, Trade practices.

12 CFR Part 1082

Banks, banking, Consumer protection, Credit unions, Law enforcement, National banks, Savings associations, State and local governments.

12 CFR Part 1090

Consumer protection, Credit.

Authority and Issuance

For the reasons set forth above, the Consumer Financial Protection Bureau amends 12 CFR parts 1070, 1080, 1081, 1082, and 1090 as follows:

PART 1070—DISCLOSURE OF RECORDS AND INFORMATION

1. The authority citation for part 1070 continues to read as follows:

Authority: 12 U.S.C. 5481 et seq.; 5 U.S.C. 552; 5 U.S.C. 552a; 18 U.S.C. 1905; 18 U.S.C. 641; 44 U.S.C. ch. 31; 44 U.S.C. ch. 35; 12 U.S.C. 3401 et seq.

2. In § 1070.2, revise paragraph (a) to read as follows:

§ 1070.2 General definitions.

(a) Supervision Director means the Supervision Director or any CFPB employee designated by the Director of the CFPB or the Supervision Director to act under this part.

* * * * *

3. In § 1070.42, remove the text “Associate Director for Supervision, Enforcement and Fair Lending” wherever it appears and add, in its place, the text “Supervision Director”.

PART 1080—RULES RELATING TO INVESTIGATIONS

4. The authority citation for part 1080 continues to read as follows:

Authority: Pub. L. 111-203, title X, 12 U.S.C. 5481 et seq.

5. In § 1080.2, remove the definition of “Office of Enforcement”.

6. In addition to the amendment set forth above, in 12 CFR part 1080, remove the words “Assistant Director of the Office of Enforcement” and add, in their place, the words “Enforcement Director” in the following places:

a. Section 1080.4;

b. Section 1080.6(a), (c) introductory text, (d), (e) introductory text, and (e)(2);

c. Section 1080.10(b); and

d. Section 1080.11(c).

7. In addition to the amendments set forth above, in 12 CFR part 1080, remove the words “Deputy Assistant Directors of the Office of Enforcement”, and add, in their place, “Deputy Enforcement Directors” in the following places:

a. Section 1080.4;

b. Section 1080.6(a), (c) introductory text, (d), (e)(2); and

c. Section 1080.11(c).

PART 1081—RULES OF PRACTICE FOR ADJUDICATION PROCEEDINGS

8. The authority citation for part 1081 continues to read as follows:

Authority: 12 U.S.C. 5512(b)(1), 5563(e).

9. In § 1081.103, remove the definition of “Office of Enforcement” and add a definition of “Enforcement Division” to read as follows:

§ 1081.103 Definitions.

* * * * *

Enforcement Division means the unit of the Bureau responsible for enforcement of Federal consumer financial law or other laws enforceable by the Bureau.

* * * * *

10. In addition to the amendment set forth above, in 12 CFR part 1081, remove the text “Office of Enforcement” wherever it appears and add, in its place, the text “Enforcement Division”.

PART 1082—STATE OFFICIAL NOTIFICATION RULES

11. The authority citation for part 1082 continues to read as follows:

Authority: 12 U.S.C. 5481 et seq.

12. Amend § 1082.1 by:

a. Removing the text “Office of Enforcement” wherever it appears and adding, in its place, the text “Enforcement Division”.

b. In paragraph (a)(1), removing the words “office of the Bureau” and adding, in their place, the words “unit of the Bureau”.

PART 1090—DEFINING LARGER PARTICIPANTS OF CERTAIN CONSUMER FINANCIAL PRODUCT AND SERVICE MARKETS

13. The authority citation for part 1090 continues to read as follows:

Authority: 12 U.S.C. 5514(a)(1)(B); 12 U.S.C. 5514(a)(2); 12 U.S.C. 5514(b)(7)(A); and 12 U.S.C. 5512(b)(1).

14. In § 1090.101, remove the definition of “Assistant Director” and add a definition of “Supervision Director” to read as follows:

§ 1090.101 Definitions.

* * * * *

Supervision Director means the Supervision Director or any Bureau employee designated by the Director of the Bureau or the Supervision Director to act under this part. The Director of the Bureau may perform the functions of the Supervision Director under this part.

* * * * *

15. In § 1090.103, remove the text “Assistant Director” wherever it appears and add, in its place, the text “Supervision Director”.

Rohit Chopra,
Director, Consumer Financial Protection Bureau.

[FR Doc. 2024-27978 Filed 11-27-24; 8:45 am]

BILLING CODE 4810-AM-P